SMALL BUSINESS ADMINISTRATION

Interagency Task Force on Veterans Small Business Development; Federal Register Meeting Notice

AGENCY: U.S. Small Business Administration.

ACTION: Notice of open Federal Interagency Task Force meeting.

DATE AND TIME: March 12, 2015, from 9:00 a.m. to 12:00 noon.

ADDRESSES: SBA Headquarters, 409 3rd Street SW., Washington, DC 20416, in the Eisenhower Conference Room B, Concourse Level.

Purpose: This public meeting is to discuss recommendations identified by the Interagency Task Force (IATF) to further enable veteran entrepreneurship policy and programs. In addition, the Task Force will allow public comment regarding the focus areas.

SUPPLEMENTARY INFORMATION: Pursuant to section 10(a) (2) of the Federal Advisory Committee Act (5 U.S.C., Appendix 2), SBA announces the meeting of the Interagency Task Force on Veterans Small Business Development. The Task Force is established pursuant to Executive Order 13540 and focused on coordinating the efforts of Federal agencies to improve capital, business development opportunities and pre-established Federal contracting goals for small business concerns owned and controlled by veterans (VOB's) and service-disabled veterans (SDVOSB's). Moreover, the Task Force shall coordinate administrative and regulatory activities and develop proposals relating to “six focus areas”: (1) Access to capital (loans, surety bonding and franchising); (2) Ensure achievement of pre-established contracting goals, including mentor protégé and matching with contracting opportunities; (3) Increase the integrity of certifications of status as a small business; (4) Reducing paperwork and administrative burdens in accessing business development and entrepreneurship opportunities; (5) Increasing and improving training and counseling services; and, (6) Making other improvements to support veteran business development by the Federal government. On November 1, 2011, the Interagency Task Force on Veterans Small Business Development submitted its first report to the President, which included 18 recommendations that were applicable to the “six focus areas” identified above.

Advance notice of attendance or desire to make a presentation to the Task Force is requested. Comments for the record should be emailed to point of contact listed below prior to the meeting for inclusion in the public record. Verbal presentations will be limited to five minutes in order to meet the agenda objectives. Requests for attendance/briefing must be emailed or sent via post by March 4, 2015, to Ms. Barbara Carson, Acting Associate Administrator, Office of Veterans Business Development, U.S. Small Business Administration, 409 3rd Street SW., Washington, DC 20416; phone: (202) 205-6773; email: vetstaskforce@sba.gov. Public comments, requests for additional information and/or special accommodations should be directed to same contact above. For more information, please visit our Web site at www.sba.gov/vets.

Dated: February 6, 2015.
Diana Doukas,
SBA Committee Management Officer.

[FR Doc. 2015-03514 Filed 2-23-15; 8:45 am]

BILLING CODE 8025-01-P